DEPARTMENT OF ENERGY

Federal Energy Regulatory Commission

[Project No. 12486-008—Idaho]

Twin Lakes Canal Company; Notice of Proposed Restricted Service List for a Programmatic Agreement for Managing Properties Included in or Eligible for Inclusion in the National Register of Historic Places

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Idaho State Historic Preservation Officer (SHPO) and the Advisory Council on Historic Preservation (Council) pursuant to the Council's regulations, 36 CFR part 800, implementing section 106 of the National Historic Preservation Act, as amended, (16 U.S.C. 470 f), to prepare and execute a Programmatic Agreement for managing properties included in, or eligible for inclusion in, the National Register of Historic Places for the proposed Bear River Narrows Hydroelectric Project (Project No. 12486).

The Programmatic Agreement, when executed by the Commission, Council, and the SHPO would satisfy the Commission's section 106 responsibilities for all individual undertakings carried out in accordance with the license until the license expires or is terminated (36 CFR 800.13[e]). The Commission's responsibilities pursuant to section 106 for the proposed Bear River Narrows Hydroelectric Project would be fulfilled through the Programmatic Agreement, which the Commission proposes to draft in consultation with certain parties listed below.

Twin Lakes Canal Company, as licensee for the proposed Bear River Narrows Hydroelectric Project, is invited to participate in consultations to develop the Programmatic Agreement and to sign as a concurring party to the Programmatic Agreement. For purposes of commenting on the Programmatic Agreement, we propose to restrict the service list for the aforementioned project as follows:

John Eddins, or Representative, Office of Planning and Review, Advisory Council on Historic Preservation, 1100 Pennsylvania Ave., NW, Suite 809, Washington, DC 20004.

Jason Walker, or Representative, Brigham Tribal Office, Northwestern Band of the Shoshoni Nation, 707 N. Main Street, Brigham City, UT 84302.

Tim Murphy, or Representative, USDI Bureau of Land Management, Idaho State Office, 1387 South Vinnell Way, Boise, ID 83709.

Nathan Small, or Representative, Shoshone-Bannock Tribes, Fort Hall Reservation, P.O. Box 306, Fort Hall, ID 83203.

Sam Whittington, or Representative, Denver Service Center, National Park Service, 12795 Alameda Parkway, Lakewood, CO 80225.

Lindsey Manning, or Representative, Shoshone-Paiute Tribes, Duck Valley Reservation, P.O. Box 219, Owyhee, NV 89832.

R. Dirk Bowles, or Representative, District # 3, Franklin County Commissioner, 39 West Oneida, Preston, ID 83263.

Darwin Sinclair, Jr., or Representative, Shoshone Business Council, Wind River Reservation, P.O. Box 538, Fort Washakie, WY 82514.

Jody Williams, or Representative, Holland & Hart LLC, 222 South Main Street # 2200, Salt Lake City, UT 84111.

Ken Reid, or Representative, Idaho State Historical Society, 210 Main Street, Boise, ID 83702.

Mark Sturtevant, or Representative, PacifiCorp Energy, 825 NE Multnomah, Suite 1500, Portland, OR 97232.

Allie Hansen, or Representative, Bear River-Battle Creek Monument Assoc., 330 W. 2nd South, Preston, ID 83263.

Nick Josten, or Representative, 2742 Saint Charles Ave. , Idaho Falls, ID 83404.

Any person on the official service list for the above-captioned proceeding may request inclusion on the restricted service list, or may request that a restricted service list not be established, by filing a motion to that effect within 15 days of this notice date. In a request for inclusion, please identify the reason(s) why there is an interest to be included.

Any such motions may be filed within 15 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include docket numbers P-12486-008.

If no such motions are filed, the restricted service list will be effective at the end of the 15-day period. Otherwise, a further notice will be issued ruling on any motion or motions filed within the 15-day period.

Dated: January 21, 2015.
Kimberly D. Bose,
Secretary.

[FR Doc. 2015-01453 Filed 1-27-15; 8:45 am]

BILLING CODE 6717-01-P